DEPARTMENT OF TRANSPORTATION

Federal Aviation Administration

Notice of Intent To Rule on a Land Release Request at Hudson Valley Regional Airport (POU), Wappingers Falls, NY

AGENCY: Federal Aviation Administration (FAA), DOT.

ACTION: Notice of request to release airport land.

SUMMARY: The FAA proposes to rule and invites public comment on the application for a release for disposal of approximately 14.79 acres of federally obligated airport property at Hudson Valley Regional Airport, Wappingers Falls, Dutchess County, NY, from the National Emergency Use Provision contained in the Quitclaim Deed, dated April 4, 1947, and from conditions, reservations, and restrictions contained in Airport Improvement Program grants that would restrict the use of said land to aeronautical purposes. This acreage is a portion of land that was transferred from the United States of America to Dutchess County by the War Asset Administration under the provisions of the Surplus Property Act of 1944. The release will allow the airport to generate revenue through a land lease for a solar farm. The proposed use of land after the release will be compatible with the airport and will not interfere with the airport or its operation.

DATES: Comments must be received on or before May 17, 2019.

FOR FURTHER INFORMATION CONTACT: Comments on this application may be mailed or delivered to the FAA at the following address: Evelyn Martinez, Manager, Federal Aviation Administration, New York Airports District Office, Federal Register Comment, 1 Aviation Plaza, Jamaica, NY 11434. In addition, one copy of the comment submitted to the FAA must be mailed or delivered to David Whalen, Deputy Commissioner, Dutchess County—Department of Public Works, 626 Dutchess Turnpike, Poughkeepsie, NY 12603.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

The county of Dutchess requested a release from grant assurance obligations to allow a land-use change in use for other than aeronautical purposes of approximately 14.79 acres of airport property at Hudson Valley Regional Airport. On April 3, 1947, the airport property was deeded to Dutchess County by the War Assets Administration via a Quitclaim Deed under the provisions of the Surplus Property Act of 1944. The Quitclaim Deed contained a National Emergency Use Provision (NEUP) allowing the United States of America the right to make sure of the land during any national emergency as declared by the President of Congress. On April 3, 2019, the Department of Defense concurred with the FAA to release the NEUP on the 14.79 acres of airport property not currently required for aeronautical purposes.

Dutchess County has entered into a lease and Solar Power Purchase Agreement with a solar power company to lease land that would allow a ground-mounted solar array to be constructed at Hudson Valley Regional Airport. The FAA has studied the site and has determined the installation will not affect the utility of the airport. The airport will retain ownership of the 14.79 acres and will be required to receive fair market value rent for the length of the agreement. The rental income will be devoted to airport operations and capital projects, and the airport will further benefit from electricity costs savings from the agreement. The proposed use of the property will not interfere with the airport or its operation.

Issued in Jamaica, New York on April 5, 2019.
Evelyn Martinez,
Manager, New York Airports District Office.

[FR Doc. 2019-07598 Filed 4-16-19; 8:45 am]

BILLING CODE 4910-13-P